DEPARTMENT OF ENERGY

Federal Energy Regulatory Commission

[Docket No. CP16-3-001]

Texas Eastern Transmission, LP; Notice of Filing

Take notice that on March 29, 2016, Texas Eastern Transmission, LP (Texas Eastern) filed an amendment, pursuant to section 7(c) of the Natural Gas Act (NGA) and Part 157 of the Commission's Regulations, for the Access South, Adair Southwest and Lebanon Extension Projects. The Application of the project was originally filed on October 8, 2015 in Docket No. CP16-3-000. The amended filing may be viewed on the web at http://www.ferc.gov using the “eLibrary” link. Enter the docket number excluding the last three digits in the docket number field to access the document. For assistance, contact FERC at FERCOnlineSupport@gerc.gov or call toll-free, (886) 208-3676 or TYY, (202) 502-8659.

Any questions regarding this application should be directed to Berk Donaldson General Manager, Rates & Certificates Texas Eastern Transmission, LP P.O. Box 1642 Houston, Texas 77251-1642 or telephone: (713) 627-4488, or by fax (713) 627-5947.

Texas Eastern's proposes amending the Application to request authorization under Section 7(c) of the NGA to construct, install, own, operate, and maintain approximately 0.5 miles of replacement pipeline and appurtenant facilities in Attala County, Mississippi as part of its Access South Project. Texas Eastern is also requesting authority pursuant to Section 7(b) of the NGA to abandon pipeline that is being removed as part of the lift and replacement activities.

There are two ways to become involved in the Commission's review of this project. First, any person wishing to obtain legal status by becoming a party to the proceedings for this project should, on or before the comment date stated below, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 5 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of any mailed environmental documents, and will be notified of any meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Motions to intervene, protests and comments may be filed electronically via the internet in lieu of paper; see, 18 CFR 385.2001(a)(1)(iii) and the instructions on the Commission's Web site under the “e-Filing” link. The Commission strongly encourages electronic filings.

Comment Date: 5:00 p.m. Eastern Time on May 5, 2016.

Dated: April 14, 2016.
Kimberly D. Bose,
Secretary.

[FR Doc. 2016-09084 Filed 4-19-16; 8:45 am]

BILLING CODE 6717-01-P